DEPARTMENT OF ENERGY

Federal Energy Regulatory Commission

Sunshine Act Meeting

October 31, 2001.

The following notice of meeting is published pursuant to section 3(A) of the Government in the Sunshine Act (Pub. L. No. 94-409), 5 U.S.C 552B:

AGENCY HOLDING MEETING: Federal Energy Regulatory Commission.

DATE AND TIME: November 7, 2001, 10 a.m.

PLACE: Room 2C, 888 First Street, NE., Washington, DC 20426.

STATUS: Open.

MATTERS TO BE CONSIDERED: Agenda

*NOTE—Items listed on the agenda may be deleted without further notice.

CONTACT PERSON FOR MORE INFORMATION SECRETARY: David P. Boergers, Telephone (202) 208-0400, for a recording listing items stricken from or added to the meeting, Call (202) 208-1627.

This is a list of matters to be considered by the commission. It does not include a listing of all papers relevant to the items of the agenda; however, all public documents may be examined in the reference and information center.

778th—Meeting November 7, 2001; Regular Meeting 10 a.m.

Administrative Agenda

A-1.

DOCKET# AD02-1, 000, Agency Administrative Matters

A-2.

DOCKET# AD02-4, 000, Reliability, Security and Market Operations

Miscellaneous Agenda

M-1.

RESERVED

Markets, Tariffs and Rates—Electric

E-1.

DOCKET# EX02-6, 000, FERC/State Partnerships

E-2.

DOCKET# RM01-12, 000, Electricity Market Design and Structure

E-3.

OMITTED

E-4.

OMITTED

E-5.

OMITTED

E-6.

DOCKET# ER01-2702, 000, Michigan Electric Transmission Company

E-7.

DOCKET# ER01-3047, 000, California Independent System Operator Corporation

E-8.

DOCKET# ER01-3053, 000, Midwest Independent Transmission System Operator, Inc.

E-9.

DOCKET# ER01-3084, 000, Nine Mile Point Nuclear Station, LLC

OTHER#S ER01-3083, 000, Niagara Mohawk Power Corporation

E-10.

OMITTED

E-11.

DOCKET# ER01-2609, 000, Southern California Edison Company

E-12.

DOCKET# ER00-1520, 003, CP&L Holdings, Inc.

OTHER#S ER01-2966, 000, Progress Energy, Inc.

ER01-2966, 001, Progress Energy, Inc.

E-13.

DOCKET# ER01-677, 000, American Transmission Company LLC

OTHER#S ER01-677, 001, American Transmission Company LLC

ER01-1577, 000, American Transmission Company LLC

ER01-1577, 001, American Transmission Company LLC

ER01-1577, 002, American Transmission Company LLC

E-14.

DOCKET# ER01-1616, 000, Duke Energy Corporation

OTHER#S ER01-1616, 001, Duke Energy Corporation

ER01-1616, 002, Duke Energy Corporation

E-15.

OMITTED

E-16.

DOCKET# ER01-3075, 000, Michigan Electric Transmission Company

E-17.

DOCKET# ER01-463, 005, Arizona Public Service Company

E-18.

OMITTED

E-19.

DOCKET# ER00-3668, 002, Commonwealth Edison Company

E-20.

DOCKET# EL00-73, 001, Mansfield Municipal Electric Department and North Attleborough Electric Department v. New England Power Company

E-21.

DOCKET# SC97-4, 001, City of Alma, Michigan

E-22.

DOCKET# ER01-2390, 002, Huntington Beach Development, L.L.C.

E-23.

DOCKET# ER01-2126, 002, Michigan Electric Transmission Company

OTHER#S ER01-2375, 001, Michigan Electric Transmission Company

E-24.

DOCKET# ER01-2435, 001, American Transmission Company LLC

E-25.

DOCKET# TX96-2, 001, City of College Station, Texas

E-26.

DOCKET# ER98-1438, 004, Midwest Independent Transmission System Operator, Inc.

OTHER#S EC98-24, 003, The Cincinnati Gas & Electric Company, Commonwealth Edison Company, Commonwealth Edison Company of Indiana, Illinois Power Company, PSI Energy, Inc., Wisconsin Electric Power Company, Union Electric Company, Central Illinois Public Service Company, Louisville Gas & Electric Company and Kentucky Utilities Company

E-27.

DOCKET# ER99-4392, 001, Southwest Power Pool, Inc.

E-28.

DOCKET# ER00-1969, 002, New York Independent System Operator, Inc.

OTHER#S EL00-57, 001, Niagara Mohawk Power Corporation v. New York Independent System Operator, Inc.

EL00-57, 002, Niagara Mohawk Power Corporation v. New York Independent System Operator, Inc.

EL00-60, 002, Orion Power New York GP, Inc. v. New York Independent System Operator, Inc.

EL00-60, 001, Orion Power New York GP, Inc. v. New York State Electric & Gas Corporation

EL00-63, 000, New York State Electric & Gas Corporation v. New York Independent System Operator, Inc.

EL00-63, 002, New York State Electric & Gas Corporation v. New York Independent System Operator, Inc.

EL00-64, 002, Rochester Gas and Electric Corporation v. New York Independent System Operator, Inc.

EL00-64, 000, Rochester Gas and Electric Corporation v. New York Independent System Operator, Inc.

ER00-1969, 003, New York Independent System Operator, Inc.

E-29.

DOCKET# ER00-3038, 001, New York Independent System Operator, Inc.

OTHER#S EL00-70, 002, New York State Electric & Gas Corporation v. New York Independent System Operator, Inc.

E-30.

OMITTED

E-31.

DOCKET# ER01-2076, 001, New York Independent System Operator, Inc.

E-32.

OMITTED

E-33.

OMITTED

E-34.

OMITTED

E-35.

OMITTED

E-36.

OMITTED

E-37.

DOCKET# EL01-101, 000, Duke Energy Corporation, Duke Energy Fossile-Hydro, LLC and Duke Energy Nuclear, LLC

E-38.

DOCKET# EL01-120, 000, Cinergy Services, Inc.

E-39.

DOCKET# EL01-119, 000, MEP Pleasant Hill, LLC, MEP Pleasant Hill Operating, LLC and CPN Pleasant Hill Operating, LLC

OTHER#S EC01-155, 000, MEP Pleasant Hill, LLC, MEP Pleasant Hill Operating, LLC and CPN Pleasant Hill Operating, LLC

E-40.

DOCKET# EL01-96, 000, Rumford Power Associates, L.P., Tiverton Power Associates, L.P., Androscoggin Energy, LLC, Calpine Construction Finance, L.P. and Calpine Eastern Corporation

E-41.

OMITTED

E-42.

DOCKET# EL01-19, 000, H.Q. Energy Services (U.S.), Inc. v. New York Independent System Operator, Inc.

E-43.

DOCKET# EL01-81, 000, Alternate Power Source, Inc. v. ISO New England, Inc.

E-44.

DOCKET# EL01-92, 000, Bangor Hydro-Electric Company v. ISO New England Inc.

E-45.

DOCKET# EL01-98, 000, American Ref-Fuel Company of Niagara, L.P. v. Niagara Mohawk Power Corporation

E-46.

DOCKET# EL01-94, 000, Rumford Power Associates, LP v. Central Maine Power Company

E-47.

OMITTED

E-48.

DOCKET# OA97-24, 005, Central Power and Light Company, West Texas Utilities Company, Southwestern Electric Power Company and Public Service Company of Oklahoma

OTHER#S ER97-881, 001, Central Power and Light Company, West Texas Utilities Company, Southwestern Electric Power Company and Public Service Company of Oklahoma

ER98-4609, 002, Central Power and Light Company, West Texas Utilities Company, Southwestern Electric Power Company and Public Service Company of Oklahoma

ER98-4611, 003, Central Power and Light Company, West Texas Utilities Company, Southwestern Electric Power Company and Public Service Company of Oklahoma

E-49.

DOCKET# ER01-889, 008, California Independent System Operator Corporation

OTHER#S ER01-3013, 000, California Independent System Operator Corporation

Markets, Tariffs and Rates—Gas

G-1.

RESERVED

G-2.

RESERVED

G-3.

DOCKET# RP00-157, 005, Kern River Gas Transmission Company

G-4.

OMITTED

G-5.

DOCKET# RP00-407, 000, High Island Offshore System, L.L.C.

OTHER#S RP00-619, 001, High Island Offshore System, L.L.C.

RP00-619, 000, High Island Offshore System, L.L.C.

G-6.

OMITTED

G-7.

DOCKET# RP00-411, 000, Iroquois Gas Transmission System, Inc.

OTHER#S RP01-44, 000, Iroquois Gas Transmission System, Inc.

RP01-44, 001, Iroquois Gas Transmission System, Inc.

G-8.

DOCKET# RP01-267, 001, Northern Border Pipeline Company

G-9.

DOCKET# OR92-8, 012, SFPP, L.P.

OTHER#S OR93-5, 009, SFPP, L.P.

OR94-3, 008, SFPP, L.P.

OR94-4, 009, SFPP, L.P.

OR94-5, 007, Mobil Oil Corporation v. SFPP, L.P.

OR94-34, 006, Tosco Corporation v. SFPP, L.P.

IS99-144, 004, SFPP, L.P.

IS00-379, 001, SFPP, L.P.

G-10.

DOCKET# RP01-496, 001, El Paso Natural Gas Company

G-11.

DOCKET# RP01-420, 000, City of Dunlap v. East Tennessee Natural Gas Company

G-12.

OMITTED

G-13.

DOCKET# OR89-2, et al., 000, Trans Alaska Pipeline System, et al.

OTHER#S OR96-14, 000, Exxon Company, U.S.A. v. Amerada Hess Pipeline Corporation, et al.

OR98-24, 000, Tesoro Alaska Petroleum Company v. Amerada Hess Pipeline Corporation, et al.

G-14.

DOCKET# MG01-31, 000, Transcontinental Gas Pipe Line Corporation

G-15.

DOCKET# MG01-30, 000, Midwestern Gas Transmission Company

Energy Projects—Hydro

H-1.

DOCKET# UL97-11, 001, PacifiCorp

H-2.

DOCKET# AD02-5, 000, Hydro Licensing Status Workshop

H-3.

DOCKET# P-1951, 079, Lester C. Reed v. Georgia Power Company

H-4.

DOCKET# P-2114, 096, Public Utility District No. 2 of Grant County, Washington

OTHER#S P-2114, 097, Public Utility District No. 2 of Grant County, Washington

H-5.

DOCKET# UL00-3, 001, Homestake Mining Company

OTHER#S UL00-4, 001, Homestake Mining Company

H-6.

DOCKET# P-2114, 101, Public Utility District No. 2 of Grant County, Washington

Energy Projects—Certificates

C-1.

DOCKET# CP00-412, 000, Cross Bay Pipeline Company, L.L.C. and Transcontinental Gas Pipe Line Corporation

OTHER#S CP00-413, 000, Cross Bay Pipeline Company, L.L.C.

CP00-414, 000, Cross Bay Pipeline Company, L.L.C.

C-2.

DOCKET# CP01-361, 000, Northwest Pipeline Corporation

C-3.

DOCKET# CP01-403, 000, Northern Natural Gas Company

C-4.

OMITTED

C-5.

DOCKET# CP97-83, 001, Trunkline Gas Company

OTHER#S CP97-84, 001, Trunkline Field Services, Inc.

C-6.

DOCKET# CP96-152, 028, Kansas Pipeline Company

David P. Boergers,
Secretary.

[FR Doc. 01-27890 Filed 11-1-01; 4:45 pm]

BILLING CODE 6717-01-P